DEPARTMENT OF THE INTERIOR

Bureau of Reclamation

[RR04073000, XXXR4081X3, RX.05940913.7000000]

Notice of Public Meeting for the Glen Canyon Dam Adaptive Management Work Group; Correction

AGENCY: Bureau of Reclamation, Interior.

ACTION: Notice; correction.

SUMMARY: The Bureau of Reclamation published a notice in the Federal Register on April 17, 2015 (80 FR 21261) announcing an open public WebEx meeting of the Glen Canyon Dam Adaptive Management Work Group. The date of May 28, 2014 for the WebEx meeting was incorrect. The correct date for the meeting is May 28, 2015. All other information regarding the meeting remains the same.

FOR FURTHER INFORMATION CONTACT: Glen Knowles, Bureau of Reclamation, telephone (801) 524-3781; facsimile (801) 524-3807; email at gknowles@usbr.gov.

Dated: May 4, 2015.
Glen Knowles,
Chief, Adaptive Management Group, Environmental Resources Division, Upper Colorado Regional Office, Salt Lake City, Utah.

[FR Doc. 2015-11133 Filed 5-7-15; 8:45 am]

BILLING CODE 4332-90-P